ENVIRONMENTAL PROTECTION AGENCY

[EPA-HQ-OECA-2013-0327; FRL-9913-68-OEI]

Information Collection Request Submitted to OMB for Review and Approval; Comment Request; NSPS for Portland Cement Plants (Renewal)

AGENCY: Environmental Protection Agency (EPA).

ACTION: Notice.

SUMMARY: The Environmental Protection Agency has submitted an information collection request (ICR), “NSPS for Portland Cement Plants (40 CFR Part 60, Subpart F) (Renewal)” (EPA ICR No. 1051.13, OMB Control No. 2060-0025), to the Office of Management and Budget (OMB) for review and approval in accordance with the Paperwork Reduction Act (44 U.S.C. 3501 et seq). This is a proposed extension of the ICR, which is currently approved through July 31, 2014. Public comments were previously requested via the Federal Register (78 FR 35023) on June 11, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 18, 2014.

ADDRESSES: Submit your comments, referencing Docket ID Number EPA-HQ-OECA-2013-0327, to: (1) EPA online using www.regulations.gov (our preferred method), or by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: Entities potentially affected by this action are portland cement plants with the following emission units: Kilns, clinker coolers, raw mill systems, raw mill dryers, raw material storage, clinker storage, finished product storage, conveyor transfer points, bagging and bulk loading and unloading systems. Entities are required to submit initial notifications, conduct initial performance tests, and submit semiannual reports for exceedances and startups, shutdown and malfunctions.

Form Numbers: None.

Respondents/affected entities: Portland cement plants.

Respondent's obligation to respond: Mandatory (40 CFR part 60, Subpart F).

Estimated number of respondents: 96 (total).

Frequency of response: Initially and semiannually.

Total estimated burden: 14,535 hours (per year). Burden is defined at 5 CFR 1320.3(b).

Total estimated cost: $2,195,995 (per year), includes $774,234 annualized capital or operation & maintenance costs.

Changes in the Estimates: There is an adjustment decrease in the respondent and Agency burden. This is not due to any program changes. The decrease occurred because we have modified the number of existing cement plants from 118 to 96 to reflect the latest industry data collected by the Agency's Greenhouse Gas Reporting Program. This revision provides a more accurate estimate for the portland cement sector, and results in an overall decrease in burden estimate.

Spencer W. Clark,
Acting Director, Collection Strategies Division.

[FR Doc. 2014-16936 Filed 7-17-14; 8:45 am]

BILLING CODE 6560-50-P